DEPARTMENT OF ENERGY

Federal Energy Regulatory Commission

[Docket No. EL00-86-000]

Boylston Municipal Light Department, et al., Complainants, v. Vermont Yankee Nuclear Power Corporation, et al., Respondents; Notice of Filing

June 26, 2000.

Take notice that on June 22, 2000, the Boylston Municipal Light Department and 21 other Secondary Purchasers of power from the Vermont Yankee Nuclear Generating Station (Secondary Purchasers), tendered for filing a complaint against Vermont Yankee Nuclear Power Corporation (VY) and the seven non-Vermont Sponsors of VY from whom the Secondary Purchasers obtain their entitlements to VY capacity and energy. The complaint asserts that VY is violating the terms of the contractual formula rate by currently collecting in its charges to the Sponsors (who in turn pass through a share of those charges to the Secondary Purchasers) certain transaction expenses incurred in connection with the proposed sale of the VY plant. The complaint requests refunds of all such transaction costs that the Secondary Purchasers have paid. The complaint also asserts that upon consummation of the proposed plant sale, the Secondary Purchasers will have contributed more than their contractual share of VY's total costs relating to decommissioning of the VY plant, and requests refunds of such excess contributions upon consummation of the plant sale. The Secondary Purchasers also request that the complain proceedings be consolidated with the review of the proposed plant sale transaction under Federal Power Act Sections 203 and 205 in Docket Nos. EC00-46-000, ER00-1027-000, ER00-1028-000, ER00-1029-000, ER00-1030-000, and EL00-33-000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 14, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before July 14, 2000.

David P. Boergers,
Secretary.

[FR Doc. 00-16573 Filed 2-29-00; 8:45 am]

BILLING CODE 6717-01-M